ENVIRONMENTAL PROTECTION AGENCY

[EPA-HQ-SFUND-2005-0003; FRL-8194-4]

Agency Information Collection Activities; Submission to OMB for Review and Approval; Comment Request; Brownfields Program—Revitalization Grantee Reporting (Renewal), EPA ICR Number 2104.02, OMB Control Number 2050-0192

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 10, 2006.

ADDRESSES: Submit your comments, referencing Docket ID No. EPA-HQ-SFUND-2005-0003, to (1) EPA online using www.regulations.gov (our preferred method), by email to superfund.docket@epa.gov, or by mail to: EPA Docket Center, Environmental Protection Agency, OSWER Docket, 5202T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Jennifer Wilbur, Office of Solid Waste and Emergency Response (OSWER), Office of Brownfields Cleanup and Redevelopment (OBCR) 5105T, U.S. EPA Headquarters, Ariel Rios Building, 1200 Pennsylvania Avenue, NW., Washington, DC 20460; telephone number: (202) 566-2756; fax number: (202) 566-2757; email address: wilbur.jennifer@epa.gov.

SUPPLEMENTARY INFORMATION: EPA has submitted the following ICR to OMB for review and approval according to the procedures prescribed in 5 CFR 1320.12. On October 17, 2005 (70 FR 60335), EPA sought comments on this ICR pursuant to 5 CFR 1320.8(d). EPA received two comments during the comment period, which are addressed in the ICR. Any additional comments on this ICR should be submitted to EPA and OMB within 30 days of this notice.

EPA has established a public docket for this ICR under Docket ID No. EPA-HQ-SFUND-2005-0003, which is available for online viewing at www.regulations.gov, or in person viewing at the OSWER Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the OSWER Docket is 202-566-0276.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Brownfields Program—Revitalization Grantee Reporting (Renewal).

ICR Numbers: EPA ICR No. 2104.02, OMB Control No. 2050-0192.

ICR Status: This ICR is scheduled to expire on August 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Small Business Liability Relief and Brownfields Revitalization Act (Pub. L. 107-118) (“the Brownfields Amendments”) was signed into law on January 11, 2002. The Act amends the Comprehensive Environmental Response, Compensation, and Liability Act (CERCLA), as amended, and authorizes EPA to award grants to States, tribes, local governments, and other eligible entities to assess and clean up brownfields sites. Under the Brownfields Amendments, a brownfields site means real property, the expansion, redevelopment, or reuse of which may be complicated by the presence or potential presence of a hazardous substance, pollutant, or contaminant. For grant funding purposes, EPA uses the term “brownfields property(ies)” synonymously with the term “brownfields sites.” The Brownfields Amendments authorize EPA to award several types of grants to eligible entities on a competitive basis.

Under subtitle A of the Small Business Liability Relief and Brownfields Revitalization Act, States, tribes, local governments, and other eligible entities can receive assessment grants to inventory, characterize, assess, and conduct planning and community involvement related to brownfields properties; cleanup grants to carry out cleanup activities at brownfields properties; grants to capitalize revolving loan funds and provide subgrants for cleanup activities; and job training grants to support the creation and implementation of environmental job training and placement programs. Under subtitle C of the Small Business Liability Relief and Brownfields Revitalization Act, State and tribes can receive grants to establish and enhance their response programs. The grants support activities necessary to establish or enhance four elements of state and tribal response programs and to meet the public record requirements under the statute. The four elements include: (a) Timely survey and inventory of brownfield sites in the State or in the tribal land; (b) oversight and enforcement authorities or other mechanisms and resources; (c) mechanisms and resources to provide meaningful opportunities for public participation; and (d) mechanisms for approval of a cleanup plan and verification and certification that cleanup is complete. States and tribes that receive funding under subtitle C must establish a public record system during the grant funding period unless an adequate public record system is already established.

Grant recipients have general reporting and recordkeeping requirements as a condition of their grant that result in burden. A portion of this reporting and record keeping burden is authorized under 40 CFR parts 30 and 31 and identified in the EPA's general grants ICR (OMB Control Number 2030-0020). EPA requires Brownfields program grant recipients to maintain and report additional information to EPA on the uses and accomplishments associated with the funded brownfields activities. EPA uses several forms to assist grantees in reporting the information and to ensure consistency of the information collected. EPA uses this information to meet Federal stewardship responsibilities to manage and track how program funds are being spent, to evaluate the performance of the Brownfields Cleanup and Redevelopment Program, to meet the Agency's reporting requirements under the Government Performance Results Act, and to report to Congress and other program stakeholders on the status and accomplishments of the grants program.

This ICR addresses the burden imposed on grant recipients that are associated with those reporting and recordkeeping requirements that are specific to grants awarded under the Small Business Liability Relief and Brownfields Revitalization Act. This ICR renewal modifies the annual reporting and recordkeeping burden under the previous ICR. The modified burden reflects an increase in the number of respondents subject to the reporting and recordkeeping requirements, and improvements to the reporting forms based on EPA's experience implementing the grant program. Specifically, subtitle C grant recipients are now subject to the reporting and recordkeeping requirements previously established for subtitle A grant recipients. By using the same form to report information on grant activities, EPA is adopting a streamlined approach that avoids potential confusion among grant recipients and allows the Agency to collect and report program information consistently across all brownfields grants. EPA is also modifying the reporting form to simplify and clarify the reporting requirements, which will improve the accuracy of information reported and minimize the burden to grant recipients.

Burden Statement: The annual public reporting and recordkeeping burden for this collection of information is estimated to average 5 hours per response for job training grant recipients. The annual reporting and record keeping burden for this collection of information is estimated to average 1.25 hours per response for subtitle A assessment, cleanup, and revolving loan fund grant recipients and subtitle C grant recipients. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are States, tribes, local governments, and certain non-governmental organizations that apply for and receive grants from EPA to support the assessment, cleanup, and redevelopment of brownfields properties.

Estimated Number of Respondents: 294.

Frequency of Response: Bi-annual for subtitle C grant recipients; quarterly for subtitle A grant recipients.

Estimated Total Annual Hour Burden: 8,683.

Estimated Total Annual Cost: $547,000 includes $0 annualized capital or O&M costs.

Changes in the Estimates: There is an increase of 1,363 hours in the total estimated annual burden currently identified in the OMB Inventory of Approved ICR Burdens. This is a program change due to an expanded number of respondents from the inclusion of subtitle C grant recipients into the information collection.

Dated: June 27, 2006.
Oscar Morales,
Director, Collection Strategies Division.

[FR Doc. E6-10836 Filed 7-10-06; 8:45 am]

BILLING CODE 6560-50-P